DEPARTMENT OF HEALTH AND HUMAN SERVICES

Health Resources and Services Administration

Agency Information Collection Activities: Submission to OMB for Review and Approval; Public Comment Request; The Maternal, Infant, and Early Childhood Home Visiting Program Pay for Outcomes Supplemental Information Request, OMB NO. 0906-XXXX NEW

AGENCY: Health Resources and Services Administration (HRSA), Department of Health and Human Services.

ACTION: Notice.

SUMMARY: In compliance with of the Paperwork Reduction Act of 1995, HRSA has submitted a Supplemental Information Request (SIR) to the Office of Management and Budget (OMB) for review and approval. Comments submitted during the first public review of this SIR will be provided to OMB. OMB will accept further comments from the public during the review and approval period.

DATES: Comments on this SIR should be received no later than June 10, 2021.

ADDRESSES: Submit your comments, including the SIR Title, to the desk officer for HRSA, either by email to OIRA_submission@omb.eop.gov or by fax to (202) 395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION: When submitting comments or requesting information, please include the Information Collection Request title for reference.

Information Collection Request Title: Maternal, Infant, and Early Childhood Home Visiting Program Pay for Outcomes Supplemental Information Request, OMB NO. 0906-XXXX, NEW

Abstract: HRSA is requesting approval to collect information in response to a SIR which will include eligible entities' plans for implementation and evaluation of Pay for Outcomes (PFO) initiatives to be applied for through the Maternal, Infant, and Early Childhood Home Visiting (MIECHV) Program. The Bipartisan Budget Act of 2018 (Pub. L. 115-123) added subsection (c)(3) to Section 511 of the Social Security Act, 42 U.S.C. 711. The new provision authorizes MIECHV Program funding recipients to use up to 25 percent of the funds awarded under subsection 511(c)(1) “to enable eligible entities to deliver services under early childhood home visitation programs” for “outcomes or success payments related to a pay for outcomes initiative that will not result in a reduction of funding for services delivered by the entity under a childhood home visitation program under this section while the eligible entity develops or operates such an initiative.” Subsection 511(j)(3)(B) further requires that “funds made available to an eligible entity under this section for a fiscal year (or portion of a fiscal year) for a pay for outcomes initiative shall remain available for expenditure by the eligible entity for not more than 10 years after the funds are so made available.”

Eligible entities may propose to use MIECHV funds for outcomes or success payments related to a PFO initiative in response to the fiscal year 2021 MIECHV Notice of Funding Opportunity and in succeeding fiscal years pending availability of future funds, the recipient must submit a detailed application that responds to the forthcoming SIR (henceforth this application is referred to as a PFO SIR Response).

A 60-day notice was published in the Federal Register on July 8, 2020. HRSA received four comments. Comments sought clarification on guidance related to third-party evaluation, selection of outcome measures, partnership agreements, budgeting PFO funds, annual reports, and maintenance of service delivery. Other comments highlighted topics that would benefit from specific technical assistance, indicated support for various aspects of the guidance, or offered suggestions that were outside the intended scope of the guidance. After taking the public comments into consideration, HRSA is proposing final revisions to the PFO SIR Guidance by making the following changes:

• Revising the SIR to further describe expectations and best practices associated with conducting feasibility studies and ensuring independence and accountability in the process. HRSA will not specify credentials or level of experience of evaluators or researchers, allowing recipients to have flexibility to determine what will work best for their context.

• Revising the SIR to further clarify that applicants are to select outcome measure(s) that will have meaningful impacts for the children and families served.

• Editing the SIR to broaden the requirements around obtaining signed partnership agreements so that a draft agreement or letter of intent, as well as a signed partnership agreement, would be acceptable.

• Revising the SIR to clarify that recipients can set aside funds awarded in multiple years as part of its PFO initiative. Recipients must propose a PFO project extending over the project period of the entire initiative, and must work closely with HRSA to ensure appropriate monitoring of use of funds for this purpose over the 10-year period of availability.

• Revising the SIR to clarify that the required annual reports must be made available to the public and removing language that may suggest that the annual reports will include outcomes that have been achieved and/or payments made.

• Revising the SIR to clarify the expectation that recipients must continue to meet program and model fidelity requirements with no reduction of funding for services. HRSA will further develop and apply criteria as part of the review and approval process of any proposed PFO initiatives to ensure PFO initiatives have no negative impact on high-quality service delivery.

Need and Proposed Use of the Information: Congress, through enactment of the Social Security Act, Title V, Section 511 (42 U.S.C. 711), as amended, established the MIECHV Program. The MIECHV Program is designed to (1) strengthen and improve the programs and activities carried out under Title V of the Social Security Act, (2) improve coordination of services for at risk communities, and (3) identify and provide comprehensive services to improve outcomes for families who reside in at risk communities. The MIECHV Program, authorized by section 511 of the Social Security Act, 42 U.S.C. 711, and administered by HRSA, in partnership with the Administration for Children and Families, supports voluntary, evidence-based home visiting services during pregnancy and to parents with young children up to kindergarten entry. States, territories, tribal entities, and in certain circumstances, nonprofit organizations are eligible to receive funding through MIECHV and have the flexibility, within the parameters of the authorizing statute, to tailor the program to serve the specific needs of their communities.

Section 50605 of the Bipartisan Budget Act (BBA) of 2018 (Pub. L. 115-123) added new Section 511(c)(3), which authorizes MIECHV recipients the option to use up to 25 percent of MIECHV funding for “outcomes or success payments related to a PFO initiative that will not result in reduction of funding for home visiting services. The new authority establishes new requirements, including that the PFO initiative “will not result in a reduction of funding for services delivered by the entity under a childhood home visitation program under this section while the eligible entity develops or operates such an initiative.” Under Section 511(j)(3)(A), funds used by recipients for a PFO initiative remain available for expenditure by the eligible entity for not more than 10 years after the funds are made available.

In response to the forthcoming SIR, MIECHV recipients planning to use MIECHV grant funds for outcomes or success payments related to a PFO initiative will be required to submit a PFO SIR Response outlining how their plans will meet all of the applicable statutory requirements and identifying what specific MIECHV funds (e.g., fiscal year 2021 formula funding) they propose to use to (1) develop and implement their PFO initiative and (2) make PFO outcomes or success payments based on the planned PFO initiative.

Regarding a PFO initiative, the MIECHV authorizing statute requires the following:

(1) A PFO initiative may not result in a reduction of funding for services delivered by the entity under a childhood home visitation program under this section while the eligible entity develops or operates such an initiative (section 711(c)(3)); and

(2) The PFO initiative for which outcome or success payments may be made must include:

(a) A feasibility study that describes how the proposed intervention is based on evidence of effectiveness;

(b) A rigorous, third-party evaluation that uses experimental or quasi-experimental design or other research methodologies that allow for the strongest possible causal inferences to determine whether the initiative has met its proposed outcomes as a result of implementation;

(c) An annual, publicly available report on the progress of the initiative; and

(d) A requirement that payments are made to the recipient of the grant, contract, or cooperative agreement only when agreed upon outcomes are achieved, excluding payments made to a third party conducting the evaluation.

See 42 U.S.C. 711(k)(4).

The forthcoming SIR will provide further instructions to recipients in proposing a PFO initiative and submitting the required information to HRSA. Recipients are not required to propose or implement a PFO initiative, but if they wish to do so, they must submit a PFO SIR Response describing how their PFO initiative will meet all of the applicable statutory requirements. HRSA will use the information collected through the PFO SIR Response to ensure that MIECHV recipients' proposals to use grant funds for PFO initiatives meet statutory requirements and to provide technical assistance to recipients. The implementation of a PFO initiative is not intended to disrupt current services or negatively impact communities that have benefited from home visiting programs and must not result in a reduction of funding for home visiting services.

Likely Respondents: MIECHV Program recipients that are states, territories, and, where applicable, nonprofit organizations providing home visiting services within states.

Burden Statement: Burden in this context means the time expended by persons to generate, maintain, retain, disclose, or provide the information requested. This includes the time needed to review instructions and supporting materials; to collect and analyze data and information to develop the PFO SIR Response; engage with stakeholders and coordinate with state level partners; and to draft and submit the PFO SIR Response. The table below summarizes the total annual burden hours estimated for this SIR.

Total Estimated Annualized Burden Hours:

Instrument | Number of respondents | Number of responses per respondent | Total responses | Average burden hours per response | Total burden hours
MIECHV PAY FOR OUTCOMES SIR | 15 | 1 | 15 | 92 | 1,380
Total | 15 |  | 15 |  | 1,380

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2021-09910 Filed 5-10-21; 8:45 am]

BILLING CODE 4165-15-P